DEPARTMENT OF AGRICULTURE

Natural Resources Conservation Service

Princeville Floodwater Mitigation and Stream Restoration Project, Edgecombe County, North Carolina

AGENCY: Natural Resources Conservation Service, Agriculture.

ACTION: Notice of a Finding Of No Significant Impact.

SUMMARY: Pursuant to Section 102(2)(C) of the National Environmental Policy Act of 1969; the Council on Environmental Quality Guidelines (40 CFR part 1500); and the Natural Resources Conservation Service Regulations (7 CFR part 650); the Natural Resources Conservation Service, U.S. Department of Agriculture, gives notice that an environmental impact statement is not being prepared for the Princeville Floodwater Mitigation and Stream Restoration Project, Edgecombe County, North Carolina.

FOR FURTHER INFORMATION CONTACT: Mary K. Combs, State Conservationist, Natural Resources Conservation Service, 4405 Bland Road, Suite 205, Raleigh, North Carolina 27609, telephone (919) 873-2101.

SUPPLEMENTARY INFORMATION: The environmental assessment of this federally assisted action indicates that the project will not cause significant local, regional, or national impacts on the environment. As a result of these findings, Mary K. Combs, State Conservationist, has determined that the preparation and review of an environmental impact statement are not needed for this project.

The project purpose is to reduce flood damages. The planned works of improvement include 8,539 feet of channel clean-out or enlargement, 736 feet of new channels, and 3,722 feet of closed conduit. The project will benefit 310 homes, 3 schools, and 6 businesses.

The Notice of a Finding Of No Significant Impact (FONSI) has been forwarded to the Environmental Protection Agency and to various federal, state, and local agencies and interested parties. A limited number of copies of the FONSI are available to fill single copy requests at the above address. Basic data developed during the environmental assessment are on file and may be reviewed by contacting Jacob Crandall, Assistant State Conservationist for Water Resources at 4405 Bland Road, Suite 205, Raleigh, North Carolina 27609.

Princeville Floodwater Mitigation and Stream Restoration Project, NC; Notice of a Finding Of No Significant Impact

No administrative action on implementation of the proposal will be taken until 30 days after the date of this publication in the Federal Register.

Mary K. Combs,
State Conservationist.

[FR Doc. 01-20251 Filed 8-10-01; 8:45 am]

BILLING CODE 3410-16-M